DEPARTMENT OF TRANSPORTATION

National Highway Traffic Safety Administration

[Docket No. NHTSA-2002-11778; Notice 2]

Bridgestone/Firestone North American Tire, LLC, Denial of Application for Decision of Inconsequential Noncompliance

Bridgestone/Firestone North American Tire, LLC (Firestone), a Delaware Limited Liability Company, has determined that approximately 754 30x9.50 R15 LT Widetrack Baja A/T tires produced in the LaVergne, Tennessee, plant are not in full compliance with 49 CFR 571.119, Federal Motor Vehicle Safety Standard (FMVSS) No. 119, “New pneumatic tires for vehicles other than passenger cars,” and has filed an appropriate report pursuant to 49 CFR part 573, “Defect and Noncompliance Reports.” Firestone has also applied to be exempted from the notification and remedy requirements of 49 U.S.C. 30118(d) and 30120(h), on the basis that the noncompliance is inconsequential to motor vehicle safety.

Notice of receipt of the application was published, with a 30-day comment period, on March 18, 2002, in the Federal Register (67 FR 12084). NHTSA received no comments.

During weeks 38, 39 and 40 of the year 2001, Firestone's LaVergne, Tennessee, plant produced a number of tires that fail to comply with the tire marking requirements of FMVSS 119 S6.5(d).

The markings on the noncompliant tires are:

Max Load 350 Kg at 1985 kPa cold

Max Load 900 Lbs at 50 PSI cold

The correct markings should have been:

Max Load 900 Kg at 350 kPa cold

Max Load 1985 Lbs at 50 PSI cold

Firestone submits that the failure of the tires to comply with FMVSS 119 S6.5 (d) should be deemed inconsequential to motor vehicle safety for the following reasons:

(1) All of the affected 30x9.50R15LT Widetrack Baja A/T tires meet all of the remaining requirements of FMVSS 119.

(2) The maximum load as stated on the tire in both English and Metric units is actually less than the actual maximum load for these tires. Therefore, it is not likely the tires would be placed in an unsafe, overload situation as a result of the marking noncompliance. In fact, if the consumer relies on the markings, the load will be significantly less than the tire is capable of carrying.

(3) While the inflation pressure is incorrect in Metric units, the English inflation units are correct. Since the English units are correct and English units are the common usage for inflation in North America, it is highly unlikely that the subject tires would be over inflated as a result of the marking noncompliance.

(4) The subject tires are correctly marked Load Range “C” and Load Index 104. By Tire and Rim Association's data, the Load Range “C” and Load Index 104 define maximum load of 1985 pounds and 900 Kgs at 50 psi and 350 kPa.

The agency believes the true measure of inconsequentiality with respect to the noncompliance with FMVSS No. 119, paragraph S6.5, is whether a consumer who relied on the incorrect information could experience a safety problem. In the case of this noncompliance, the maximum load markings are understated, making it unlikely the tires would be overloaded by consumers following the marked maximum load values. However, while the corresponding inflation pressure value is correctly marked in English units, it is overstated by over 500 percent in Metric units. While we recognize that consumers are supposed to identify the proper inflation pressure from the tire information placard, surveys have shown that some consumers rely on the maximum load markings on the tire. A consumer who relied on the Metric markings on these tires could over-inflate the tires to unsafe levels, potentially resulting in personal injury or tire failure.

In consideration of the foregoing, NHTSA has decided that the applicant has not met its burden of persuasion that the noncompliance described is inconsequential to safety. Accordingly, Firestone's application is hereby denied, and the applicant must provide notification of the noncompliance, as required by 49 U.S.C. 30118. Also, Firestone must provide a cost-free remedy for the noncompliance.

(49 U.S.C. 30118, 30120; delegations of authority at 49 CFR 1.50 and 501.8)
Issued on: August 27, 2002.
Stephen R. Kratzke,
Associate Administrator for Rulemaking.

[FR Doc. 02-22320 Filed 8-30-02; 8:45 am]

BILLING CODE 4910-59-P